DEPARTMENT OF ENERGY

Federal Energy Regulatory Commission

[Project No. 14795-002]

Notice of Scoping Meetings and Environmental Site Review and Soliciting Scoping Comments; Shell Energy North America (US), L.P.

Take notice that the following hydroelectric applications have been filed with Commission and are available for public inspection:

a. Type of Application: Original major license.

b. Project No.: 14795-002.

c. Date Filed: November 1, 2017.

d. Applicant: Shell Energy North America (US), L.P.

e. Name of Project: Hydro Battery Pearl Hill Pumped Storage Project.

f. Location: On the Columbia River and Rufus Woods Lake, near Bridgeport, Douglas County, Washington. The upper reservoir and penstock would be located on state lands, while the lower reservoir and power generation and pumping equipment would be located on Rufus Woods Lake, a reservoir operated by the Army Corps of Engineers (Corps).

g. Filed Pursuant to: Federal Power Act, 16 U.S.C. 791(a)-825(r).

h. Applicant Contact: Kent Watt, Shell US Hosting Company, Shell Woodcreek Office, 150 North Dairy Ashford, Houston, TX 77079, (832) 337-1160, kent.watt@shell.com.

i. FERC Contact: Ryan Hansen, 888 1st St. NE, Washington, DC 20426, (202) 502-8074, ryan.hansen@ferc.gov.

j. Deadline for Filing Scoping Comments: April 6, 2018.

The Commission strongly encourages electronic filing. Please file scoping comments using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE, Washington, DC 20426. The first page of any filing should include docket number P-14795-002.

The Commission's Rules of Practice and Procedure require all interveners filing documents with the Commission to serve a copy of that document on each person on the official service list for the project. Further, if an intervener files comments or documents with the Commission relating to the merits of an issue that may affect the responsibilities of a particular resource agency, they must also serve a copy of the document on that resource agency.

k. This application is not ready for environmental analysis at this time.

l. The proposed project would utilize the Corps' existing Rufus Woods Lake Reservoir, and would consist of the following new facilities: (1) A 300-foot-diameter, 20-foot-tall lined corrugated steel tank upper reservoir with a storage capacity of 26.5 acre-feet; (2) a 3-foot-diameter, 3,400-foot-long above-ground carbon steel penstock transitioning to a 3-foot-diameter, 2,700-foot-long buried carbon steel penstock; (3) a 77-foot-long, 77-foot-wide structural steel power platform housing five 2,400 horsepower vertical turbine pumps, one 5 megawatt twin-jet Pelton turbine and synchronous generator, and accompanying electrical equipment; (4) five vertical turbine pump intakes, each fitted with a 27-inch-diameter by 94-inch-long T-style fish screen; (5) a 2,500-foot-long, 24.9-kilovolt transmission line. which would be partially buried and partially affixed to the penstock, interconnecting to an existing non-project transmission line; (6) approximately 3,847 feet of gravel project access road; and (7) appurtenant facilities. The average annual generation is estimated to be 24 gigawatt-hours.

m. A copy of the application is available for review at the Commission in the Public Reference Room or may be viewed on the Commission's website at http://www.ferc.gov using the eLibrary link. Enter the docket number excluding the last three digits in the docket number field to access the document. For assistance, contact FERC Online Support. A copy is also available for inspection and reproduction at the address in item h above.

You may also register online at http://www.ferc.gov/docs-filing/esubscription.asp to be notified via email of new filings and issuances related to this or other pending projects. For assistance, contact FERC Online Support.

n. Scoping Process

The Commission intends to prepare an environmental assessment (EA) in cooperation with the Corps ¹ on the project in accordance with the National Environmental Policy Act. The EA will consider both site-specific and cumulative environmental impacts and reasonable alternatives to the proposed action.

¹ In a letter filed on January 24, 2018, the Corps requested cooperating agency status.

Scoping Meetings

FERC staff will conduct one agency scoping meeting and one public meeting. The agency scoping meeting will focus on resource agency and non-governmental organization (NGO) concerns, while the public scoping meeting is primarily for public input. All interested individuals, organizations, and agencies are invited to attend one or both of the meetings, and to assist the staff in identifying the scope of the environmental issues that should be analyzed in the EA. The times and locations of these meetings are as follows:

Agency Scoping Meeting

Date: March 7, 2018.

Time: 9:00 a.m. (PST).

Place: Howard's on the River.

Address: 245 Lakeshore Drive, Pateros, WA 98846.

Public Scoping Meeting

Date: March 7, 2018.

Time: 6:00 p.m. (PST).

Place: Howard's on the River.

Address: 245 Lakeshore Drive, Pateros, WA 98846.

Copies of the Scoping Document (SD1) outlining the subject areas to be addressed in the EA were distributed to the parties on the Commission's mailing list. Copies of the SD1 will be available at the scoping meeting or may be viewed on the web at http://www.ferc.gov using the eLibrary link (see item m above).

Environmental Site Review

The Applicant and FERC staff will conduct a project environmental site review beginning at 9:00 a.m. on March 8, 2018. All interested individuals, organizations, and agencies are invited to attend. All participants should meet at the Quick-E Mart parking lot at 2606 Foster Creek Ave., Bridgeport, WA 98813. All participants are responsible for their own transportation to the site. Anyone with questions about the site review should contact JT Steenkamp at (403) 384-7517 or email at jt.steenkamp@shell.com.

Objectives

At the scoping meetings, the staff will: (1) Summarize the environmental issues tentatively identified for analysis in the EA; (2) solicit from the meeting participants all available information, especially quantifiable data, on the resources at issue; (3) encourage statements from experts and the public on issues that should be analyzed in the EA, including viewpoints in opposition to, or in support of, the staff's preliminary views; (4) determine the resource issues to be addressed in the EA; and (5) identify those issues that require a detailed analysis, as well as those issues that do not require a detailed analysis.

Procedures

The meetings are recorded by a stenographer and become part of the formal record of the Commission proceeding on the project.

Individuals, organizations, and agencies with environmental expertise and concerns are encouraged to attend the meeting and to assist the staff in defining and clarifying the issues to be addressed in the EA.

Dated: February 5, 2018.
Kimberly D. Bose,
Secretary.

[FR Doc. 2018-02849 Filed 2-12-18; 8:45 am]

BILLING CODE 6717-01-P